ENVIRONMENTAL PROTECTION AGENCY

[EPA-HQ-OPPT-2015-0841; FRL-9941-93]

Request for Applications; Third-Party Chemical/Product Profilers for the Safer Choice Program

AGENCY: Environmental Protection Agency (EPA).

ACTION: Notice.

SUMMARY: The Safer Choice Program reduces pollution and potential risk at its source by setting criteria that product manufacturers must meet to qualify to use the Safer Choice label. The Safer Choice label helps consumers, businesses, and purchasers find products with ingredients that perform well and are safer for human health and the environment. To earn the Safer Choice label, products and their ingredients must meet the established Safer Choice Standard and safer chemical criteria. Third-party profilers (TPP) review the candidate's products against Safer Choice standards and criteria, collect performance information, and develop chemical profiles. EPA is seeking additional third-party profilers to help the Safer Choice Program meet the growing consumer demand for safer products carrying the Safer Choice label. Entities that are interested in serving as Safer Choice third-party profilers should submit an application for EPA consideration. Qualified applicants will be asked to sign a memorandum of understanding (MOU), formalizing their commitment to support the Safer Choice Program's human and environmental health protection mission.

DATES: Applications may be submitted at any time; however, to be considered for qualification as a third-party profiler in 2016, applications must be received by May 16, 2016.

ADDRESSES: Submit your application identified by docket identification (ID) number EPA-HQ-OPPT-2015-0841, by one of following methods:

• Mail: Safer Choice TPP Application, c/o Abt Associates, Inc., Attn: Klara Zimmerman, 4550 Montgomery Avenue, Suite 800 North, Bethesda, MD 20814-5341.

• Phone: (301) 634-1722.

• Docket: Submit to the docket ID number EPA-HQ-OPPT-2015-0841.

• Hand Delivery: To make special arrangements for hand delivery or delivery of boxed information, please contact Tony Thompson (FOR FURTHER INFORMATION CONTACT). Additional instructions on commenting or visiting the docket, along with more information about dockets generally is available at http://www.epa.gov/dockets.

FOR FURTHER INFORMATION CONTACT: For technical information contact: Tony Thompson, Chemistry, Economics and Sustainable Strategies Division, Office of Pollution Prevention and Toxics, Environmental Protection Agency, 1200 Pennsylvania Ave. NW., Washington, DC 20460-0001; telephone number: (202) 564-2296; email address: thompson.tony@epa.gov.

SUPPLEMENTARY INFORMATION:

I. General Information

To help the Safer Choice program meet the growing consumer demand for safer products carrying the Safer Choice label, EPA is actively soliciting applications for additional Safer Choice third-party profilers. Entities that are interested in serving as a Safer Choice third-party profiler should review the Safer Choice standards and criteria and other program materials available at http://www.epa.gov/saferchoice to determine whether they should apply.

For a candidate to qualify and fully participate in the Safer Choice Program, Safer Choice expects and TPPs should address how they would approach or undertake each of the following activities:

1. Supporting the Safer Choice Program. Safeguard and uphold the integrity, quality, and trustworthiness of the Safer Choice product and chemical-evaluation processes, program, and label, including development of strong and effective working relationships with the Safer Choice staff.

2. Meeting and Maintaining the TPP Provisions in the Safer Choice Standard. Satisfy the provisions of the Safer Choice Standard, section 7—“Profiler Requirements,” which include technical competence in chemical hazard and fate reviews; staffing with experts in the various profiling disciplines; facility with toxicological models and estimation tools; program managerial skills; credibility and good standing; and success at a pilot review that simulates an actual product evaluation. (See the Safer Choice Standard at http://www2.epa.gov/saferchoice/safer-choice-standard.)

3. Following the Procedures in the Safer Choice TPP Handbook. Use the Third-Party Profiler Handbook/Guidance Manual to inform its profiling activities, including, for example, searching the approved set of data sources; digesting the key, distinguishing hazard data; and preparing a dossier on each chemical ingredient in a candidate product.

Beyond regular oversight, the TPP will conduct annual partner surveillance, including triennial on-site audits, to ensure compliance with program requirements. (See the Third- Party Profiler Handbook; contact Tony Thompson at thompson.tony@epa.gov or (202) 564-2296 for details.)

4. Submitting to Performance Review. In addition to regular feedback and recommendations from Safer Choice staff, engage in annual performance reviews, and once every 5 years, a full performance evaluation, which will culminate in a Safer Choice decision on whether the TPP retains its status as a qualified TPP.

5. Adopting and Using the Safer Choice Data System. Use the Safer Choice data system (known as the Safer Choice Community) to manage all Safer Choice product review and partnership activities, including purchase and maintenance of the necessary computer hardware and system licenses. (For more information, see the TPP Handbook.)

6. Performing Supplemental Duties. Fulfill other requests and functions related to its TPP duties that may arise from time to time, as needed.

7. Adhering to Good Business Practices. Demonstrate and follow good business practices in dealing with companies working with Safer Choice. Good business practices include: Offering open access to your services to legitimate potential clients; adopting and implementing customer service standards; and avoiding potential conflicts of interest.

8. Signing a Memorandum of Understanding. Qualified applicants will be asked to sign a MOU, formalizing their commitment to serve as a TPP and support the Safer Choice Program's human and environmental health protection mission. (See the boilerplate MOU in the docket ID number EPA-HQ-OPPT-2015-0841.)

II. Instructions for Applicants

A. How to Submit an Application

Applicants for Safer Choice Third Party Profiler must complete an application form, available in the docket ID number EPA-HQ-OPPT-2015-0841. To be considered in the 2016 selection cycle, completed applications must be submitted to Safer Choice via one of the means listed under ADDRESSES and by the deadline listed under DATES indicated in this notice.

B. Requirements for Submitting Business Proprietary Information

Clearly mark the part or all of the information that you claim to be business proprietary. In addition to one complete version of the application that includes information claimed as proprietary, a copy of the application that does not contain the proprietary information must be submitted. Information marked as business proprietary will not be disclosed except in accordance with the procedures set forth in 40 CFR part 2.

III. Selection of Safer Choice Third-Party Profilers

Safer Choice will review and evaluate all applications based on the TPP qualifications enumerated in this notice. From the applications submitted for the 2016 TPP cycle, the program will select up to two best-qualified candidates to participate in trial product reviews. After successful completion of these reviews—during which the program will assist the candidate in orienting to the process and gaining competency—the candidate will be a qualified Safer Choice TPP. The new TPP will be asked to sign the Safer Choice-TPP memorandum of understanding and, following signature, may accept clients and begin its service to the program.

The quality and integrity of the Safer Choice label rests on active program engagement with and oversight of our profilers. Safer Choice plans to add up to two new TPPs this year, doubling its pool of profilers, based on the program's ability to assimilate, train, and oversee the new TPPs while maintaining its other program functions. Safer Choice will continually evaluate its ability to bring on additional TPPs.

All qualified TPPs will be listed in and accessible via the Safer Choice Community, the data system product manufacturers use to apply for the Safer Choice label.

Authority: 15 U.S.C. 2601 et seq.

Dated: March 9, 2016.
Wendy C. Hamnett,
Director, Office of Pollution Prevention and Toxics.

[FR Doc. 2016-06052 Filed 3-16-16; 8:45 am]

BILLING CODE 6560-50-P